ENVIRONMENTAL PROTECTION AGENCY

[FRL-8273-5]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et. seq). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1061.10; NSPS for Phosphate Fertilizer Industry (Renewal); in 40 CFR part 60, subparts T, U, V, W and X; was approved 12/28/2006; OMB Number 2060-0037; expires 12/31/2009.

EPA ICR No. 0940.20; Ambient Air Quality Surveillance (Final Rule); in 40 CFR part 58 was approved 12/28/2006; OMB Number 2060-0084; expires 12/31/2009.

EPA ICR No. 1415.07; NESHAP for Perchlorethylene Dry Cleaning Facilities (Renewal); in 40 CFR part 63, subpart M; was approved 12/28/2006; OMB Number 2060-0234; expires 12/31/2009.

EPA ICR No. 1969.03; NESHAP for Miscellaneous Organic Chemical Manufacturing (Renewal); in 40 CFR part 63, subpart FFFF; was approved 12/28/2006; OMB Number 2060-0533; expires 12/31/2009.

EPA ICR No. 1487.09; Cooperative Agreements and Superfund State Contracts for Superfund Response Actions (Final Rule); in 40 CFR part 35, subpart O; was approved 12/26/2006; OMB Number 2050-0179; expires 12/31/2009.

EPA ICR No. 0328.13; Spill Prevention, Control and Countermeasures (SPCC) Plans (Final Rule); in 40 CFR 112.1-112.15; was approved 12/18/2006; OMB Number 2050-0021; expires 12/31/2009.

EPA ICR No. 0783.51; Fuel Economy Labeling of Motor Vehicles: Revisions to Improve Calculations of Fuel Economy Estimates; was approved 12/14/2006; OMB Number 2060-0104; expires 11/30/2008.

EPA ICR No. 2233.01; Reporting and Recordkeeping Requirements Under EPA's Water Efficiency Program; was approved 01/10/2007; OMB Number 2040-0272; expires 01/31/2010.

EPA ICR No. 1981.03; Distribution of Offsite Consequence Analysis Information under Section 112(r)(7)(H) of the Clean Act (CAA) (Renewal); was approved 01/11/2007; in 40 CFR Part 1400; OMB Number 2050-0172; expires 01/31/2010.

EPA ICR No. 2247.01; NESHAP for Perchloroethylene Dry Cleaning Facilities; in 40 CFR part 63, subpart M; was approved 01/11/2007; OMB Number 2060-0595; expires 01/31/2010.

Comment Filed

EPA ICR No. 0983.09; NSPS for Equipment Leaks of VOC in Petroleum Refineries (Proposed Rule); in 40 CFR part 60, subpart GGG; OMB filed comment on 12/28/2006.

EPA ICR No. 1854.05; Consolidated Federal Air Rule for SOCMI (Proposed Rule for Changes to Subpart VV); OMB filed comment on 12/28/2006.

EPA ICR No. 2245.01; NESHAP for Hospital Ethylene Oxide Sterilization (Proposed Rule); in 40 CFR part 63, subpart WWWWW; OMB filed comment on 12/28/2006.

EPA ICR No. 2237.01; NESHAP for Source Categories: Gasoline Distribution Bulk Terminals, Bulk Plants, Pipeline Facilities, and Gasoline Dispensing Facilities (Proposed Rule); in 40 CFR part 63, subpart BBBBBB; OMB filed comment on 12/28/2006.

EPA ICR No. 2242.01; Renewable Fuels Standards (RFS) Program (Proposed Rule); in 40 CFR 80.1101; OMB filed comment on 12/27/2006.

EPA ICR No. 1230.16; ICR for Changes to the 40 CFR Parts 51 and 52 PSD and Nonattainment NSR: Debottlenecking, Aggregation, and Project Netting (Proposed Rule); in 40 CFR 51.160 to 51.166; 40 CFR 52.21; 40 CFR 52.24; OMB filed comments on 12/14/2006.

EPA ICR No. 2240.01; NESHAP for Area Sources: Polyvinyl Chloride and Copolymer Production, Primary Copper Smelting, Secondary Copper Smelting, and Primary Nonferrous Metals—Zinc, Cadmium, and Beryllium (Proposed Rule); in 40 CFR part 63, §§ 11149(d)-(g), 11150(a)-(b), 11162(g), 11163(c)-(g), 11164(a)-(b), Table 1 to subpart GGGGG, EEEEEE, and FFFFFF; OMB filed comment on 12/14/2006.

Dated: January 16, 2007.
Oscar Morales,
Director, Collection Strategies Division.

[FR Doc. E7-1095 Filed 1-24-07; 8:45 am]

BILLING CODE 6560-50-P